DEPARTMENT OF HOMELAND SECURITY

U.S. Customs and Border Protection

CBP Immigration Fees Required by HR-1 for Fiscal Year 2025

AGENCY: U.S. Customs and Border Protection, Department of Homeland Security.

ACTION: General notice.

SUMMARY: This notice advises the public that, pursuant to HR-1, U.S. Customs and Border Protection (CBP) will require aliens to pay a new fee to apply for a CBP Form I-94 Arrival/Departure Record, and to enroll in the Electronic Visa Update System. Additionally, pursuant to HR-1, the Electronic System for Travel Authorization (ESTA) fee for authorizations has increased. This notice advises the public of the HR-1 applicable fees for Fiscal Year (FY) 2025.

DATES: CBP will begin assessing the new HR-1 fees described in this notice on September 30, 2025.

FOR FURTHER INFORMATION CONTACT: Melanie Mataxas, Director, Electronic Systems Travel Authorization, Office of Field Operations, U.S. Customs and Border Protection, at 202-325-1372 or at melanie.d.mataxas@cbp.dhs.gov.

SUPPLEMENTARY INFORMATION:

I. Background and Legal Authority

On July 4, 2025, the President signed into law the One Big Beautiful Bill Act, Public Law 119-21, 139 Stat. 72 (“HR-1”). HR-1 was a comprehensive legislative package that changed many laws and added new laws that touch many areas of the United States Government.¹ Among those changes, the law established new immigration enforcement fees and increased existing fees for certain immigration-related actions. The statute establishes minimum fees for Fiscal Year (FY) 2025 and requires annual increases to the fees based on the Consumer Price Index for All Urban Consumers.²

¹ See HR-1, Title X, Subtitle A, Part I, sections 100001 through 100018.

² See Public Law 119-21 secs. 100008(b)(2), 100014(3), 100015(b)(2).

This notice states the FY 2025 rates for three fees specified in HR-1 that are generally administered by U.S. Customs and Border Protection (CBP).³ Specifically, this notice states the fees applicable for the application of CBP Form I-94 Arrival/Departure Record, for travel authorizations via the Electronic System for Travel Authorization (ESTA), and for enrollment in the Electronic Visa Update System (EVUS). See Public Law 119-21 secs. 100008, 100014, 100015. The funds collected from these fees will be distributed to the appropriate agency or the U.S. Treasury as mandated by statute.⁴ The following table provides a summary of the FY 2025 fees described in this notice and required by HR-1.

³ The Secretary of Homeland Security has delegated the authority to enforce and administer the immigration laws to the Commissioner of U.S. Customs and Border Protection (CBP). See DHS, Delegation No. 07010.3, Delegation of Authority to the Commissioner of U.S. Customs and Border Protection, No. 07010.3, II.B.11 (Rev. No. 03.2, Incorporating Change 2) (Dec. 11, 2024).

⁴ See 8 U.S.C. 1187(h)(3)(B)(ii); 8 U.S.C. 1356; Public Law 119-21 secs. 100008(c), 100015(c).

FY 2025 Fees, as Required by HR-1
HR-1, Public Law 119-21 (139 Stat. 72) section | Action | Current fee | FY 2025 HR-1 fee | Total FY 2025 fee
100008 | Application for CBP Form I-94 at land border ports of entry | $6 | $24 ⁵ (added to existing fee) | $30
100014 | ESTA authorization | 21 | $40 (replaces existing fee) | 40
100015 | EVUS enrollment | N/A | $30 | 30

II. FY 2025 Immigration Fees Required by HR-1

⁵ As described above in section II.B, the total fee for aliens who apply for a CBP Form I-94 (i.e., aliens arriving at a land border port of entry) will be $30, consisting of the $6 fee required by 8 CFR 103.7(d)(4), 235.1(h)(1) and 286.9(b)(1), and the $24 fee required by HR-1.

A. CBP Form I-94 Arrival/Departure Record

CBP issues an electronic CBP Form I-94 Arrival/Departure Record to all arriving aliens who are legally required to submit that form (unless otherwise exempted). See 8 CFR 1.4, 235.1(h). CBP Form I-94 serves as evidence of the terms of the alien's admission or parole and is generally issued at the time the alien is admitted or paroled at a U.S. port of entry. See 8 CFR 235.1(h). Aliens arriving at a land border port of entry must apply for a CBP Form I-94.

Pursuant to HR-1, the Secretary of Homeland Security must require the payment of a fee for any alien who submits an application for a Form I-94 Arrival/Departure Record. See Public Law 119-21 sec. 100008. For FY 2025, the statute sets a minimum fee of $24. See Public Law 119-21 sec. 100008(b)(1). Accordingly, for FY 2025, the minimum HR-1 fee to apply for a CBP Form I-94 is $24.

The $24 fee is in addition to any other fee applicable by law. See Public Law 119-21 sec. 100008(a). Currently, CBP imposes a $6 fee for aliens who are required to be issued, or request to be issued, CBP Form I-94 and who intend to arrive at a land border port of entry. See 8 CFR 103.7(d)(4), 235.1(h)(1) and 286.9(b)(1). Accordingly, the total fee to apply for a CBP Form I-94 at a land border port of entry for FY 2025 is $30, consisting of the $6 land border fee and the HR-1 $24 fee. CBP will not assess a fee for aliens arriving at an air or sea port of entry because such aliens are not required to submit an application for a CBP Form I-94.

B. Electronic System for Travel Authorization (ESTA)

ESTA is the online system through which aliens intending to enter the United States under the Visa Waiver Program (VWP) must obtain an electronic travel authorization in advance of travel to the United States.⁶ Each alien intending to travel by air, sea, or land to the United States under the VWP must receive a travel authorization via ESTA prior to travel. See sec. 217 of the Immigration and Nationality Act (INA) (8 U.S.C. 1187) and 8 CFR part 217. Prior to the enactment of HR-1, CBP required a fee of $21 for an ESTA.

⁶ For additional information on the Visa Waiver Program, see 8 U.S.C. 1187 and 8 CFR part 217.

Section 100014 of Public Law 119-21 amended section 217(h)(3)(B) of the INA (8 U.S.C. 1187(h)(3)(B)) to increase the fee for the use of ESTA to $40. The minimum ESTA fee for FY 2025 is now $40.⁷

⁷ The ESTA fee is now the sum of three amounts: (1) $17 per travel authorization fee, pre-existing in (B)(i)(I); (2) an amount not less than $10, set now in (B)(i)(II); and (3) the new $13 per travel authorization fee in (B)(i)(III), for a total minimum of $40. See INA section 217(h)(3)(B), as amended by sec. 100014, Public Law 119-21.

C. Electronic Visa Update System (EVUS)

EVUS is an online system currently used by nationals of the People's Republic of China (PRC) holding a 10-year B1/B2, B1 or B2 (visitor) visa to provide required information to the Department of Homeland Security (DHS) prior to travel to the United States. See 8 CFR part 215, subpart B.⁸ PRC nationals with an approved U.S.-issued visa of a designated category must enroll in EVUS and provide or update personal and travel information to receive a determination of travel eligibility. See 8 CFR 214.24.

⁸ In a Federal Register notice published on Oct. 20, 2016 (81 FR 72600), DHS identified the PRC as an EVUS country and designated B-1, B-2, and B-1/B-2 visas issued without restriction for the maximum validity period and contained in a passport issued by the PRC as designated visa categories for purposes of EVUS.

Pursuant to HR-1, the Secretary of Homeland Security must require the payment of a fee by any alien enrolling in EVUS. Public Law 119-21 sec. 100015. The alien must pay the fee at the time of enrollment. Id. For FY 2025, the statute sets a minimum fee of $30. See Public Law 119-21 sec. 100015(b)(1). This $30 fee is in addition to any other fee applicable by law. See Public Law 119-21 sec. 100015(a).

III. Signing Authority

Rodney S. Scott, Commissioner, having reviewed and approved this document, has delegated the authority to electronically sign this document to the Director (or Acting Director, if applicable) of the Regulations and Disclosure Law Division for CBP, for purposes of publication in the Federal Register.

Robert F. Altneu,
Director, Regulations and Disclosure Law Division, Regulations and Rulings, Office of Trade, U.S. Customs and Border Protection.

[FR Doc. 2025-16453 Filed 8-27-25; 8:45 am]

BILLING CODE 9111-14-P